ENVIRONMENTAL PROTECTION AGENCY

[FRL-12394-01-OW]

Environmental Financial Advisory Board (EFAB); Request for Nominations

AGENCY: Environmental Protection Agency (EPA).

ACTION: Notice of request for nominations of candidates to the Environmental Financial Advisory Board.

SUMMARY: The U.S. Environmental Protection Agency (EPA) invites nominations of qualified candidates to be considered for appointment to the Environmental Financial Advisory Board (the Board or EFAB). The Board provides advice to EPA on ways to lower the costs of, and increase investments in, environmental and public health protection. Appointments will be made by the Administrator and will be announced in June 2025. EPA may also consider nominations received through this solicitation in the event of unanticipated vacancies on the Board.

DATES: Nominations should be submitted in time to arrive no later than December 16, 2024.

ADDRESSES: Nominations should be sent via email to efab@epa.gov.

FOR FURTHER INFORMATION CONTACT: Any member of the public who wants further information concerning the nomination process may contact Tara Johnson via telephone/voicemail at (202) 809-7368 or email to efab@epa.gov. General information concerning the EFAB is available at www.epa.gov/waterfinancecenter/efab.

SUPPLEMENTARY INFORMATION:

Background: The EFAB is an EPA advisory committee chartered under the Federal Advisory Committee Act (FACA), 5 U.S.C. 10, to provide advice and recommendations to EPA on innovative approaches to financing environmental programs, projects, and activities. The Board was established in 1991 to provide advice and recommendations to EPA. Since inception, the Board has advised the EPA on a wide-ranging set of issues including but not limited to the following:

• Creating incentives to increase private investment in the provision of environmental services and removing or reducing constraints on private involvement wherever possible;

• Developing new and innovative environmental financing approaches and supporting and encouraging the use of cost-effective existing approaches;

• Identifying approaches, challenges, opportunities, and methodologies specifically targeted to small community financing;

• Assessing government strategies for implementing public-private partnerships, including privatization, operations and maintenance issues, and other alternative financing mechanisms;

• Improving governmental principles of accounting and disclosure standards to help improve the financial sustainability of environmental programs;

• Increasing the capacity of state and local governments to carry out their respective environmental programs under current Federal laws;

• Increasing the total investment in environmental protection and stewardship of public and private environmental resources to help ease the environmental financing challenge facing our nation; and

• Developing innovative investment models and market-based approaches that increase the long-term resiliency of infrastructure.

The Board's recent work has included:

• Options for the development of the Greenhouse Gas Reduction Fund authorized under the Inflation Reduction Act; and

• Recommendations for catalyzing pollution prevention finance, enhancing the agency's approach to encourage increased Opportunity Zone funds investment alongside existing EPA funding tools, and improving the availability of public and private sources of funding for stormwater infrastructure.

The Board meets either in-person or virtually two times each calendar year (two days per meeting) at different locations within the continental United States. In addition to the bi-annual meetings, additional virtual meetings may be held during the year to ensure timely completion of the Board's work. Board members typically contribute approximately 3 to 8 hours per month to the activities of the Board. This includes participation on one or more of the Board's active workgroups. Members serve on the Board without compensation; however, Board members may receive travel and per diem allowances where appropriate and in accordance with Federal travel regulations.

Members are appointed to represent the perspective of specific organizations, associations, or groups of persons (Representative members), or to provide their individual expertise (Special Government Employee, or SGE, members). Candidates invited to serve as SGE members will be asked to submit the “Confidential Financial Disclosure Form for Special Government Employees Serving on Federal Advisory Committees at the U.S. Environmental Protection Agency” (EPA Form 3110-48). This confidential form allows EPA to determine whether there is a statutory conflict between that person's public responsibilities as an SGE member and private interests and activities, or the appearance of a loss of impartiality as defined by Federal regulation. The form may be viewed at https://www.epa.gov/waterfinancecenter/efab, but this form should not be submitted as part of a nomination.

Experience and Expertise Sought for the EFAB: The Board seeks to maintain diverse representation across all workforce sectors (state/local/tribal government, business (industry and finance), and nonprofit organizations) and geographic regions of the United States. Nominees should demonstrate experience in environmental finance and/or reducing the cost of financing environmental protection in various environmental media (e.g., air, energy, land, and water). Experience and expertise sought include, but are not limited to, the following areas: commercial banking; environmental and financial resiliency; environmental financing including sector-specific experience; environmental justice; environmental, social, and corporate governance; environmental equity financing; Federal investments in environmental financing; green banking; infrastructure financing; insurance markets; local utility management and finance; public-public and public-private partnerships; regulators; resource conservation; sustainable community partnerships; and sustainable economies.

In accordance with Executive Order 14035 (June 25, 2021) and consistent with law, EPA values and welcomes opportunities to increase diversity, equity, inclusion, and accessibility on its Federal advisory committees. EPA's Federal advisory committees strive to have a workforce that reflects the diversity of the American people. Nominee qualifications will be assessed under the mandates of the FACA, which requires that committees be balanced in terms of the points of view represented and the functions to be performed; for the Board, this balance includes diversity across a broad range of constituencies, sectors, and groups. In addition to this notice, other sources may be utilized to make interested parties aware of this solicitation for nominees. EPA may also consider nominations received through this solicitation in the event of unanticipated vacancies on the Board.

How to Submit Nominations: Any interested person or organization may nominate qualified person(s) to be considered for appointment to the EFAB. Individuals may self-nominate.

Nominations can only be submitted via email to efab@epa.gov. Nominations should include the following information: Contact information for the person making the nomination; contact information for the nominee (if different), including full name and title, business mailing address, telephone, and email address; the specific areas of experience or expertise of the nominee; the nominee's curriculum vitae or resume; and a biographical sketch of the nominee indicating current position and recent service on other Federal advisory committees or national professional organizations. A supporting letter of endorsement is encouraged, but not required.

Evaluation Criteria: The following criteria will be used to evaluate nominees: Residence in the United States; professional knowledge of, and experience with, environmental financing activities; senior-level experience that fills a gap in Board representation or brings a new and relevant dimension to its deliberations; demonstrated ability to work in a consensus-building process with a wide range of representatives from diverse constituencies; and willingness to serve a two or three-year term as an active and contributing member, with possible reappointment to a second term.

Andrew D. Sawyers,
Director, Office of Wastewater Management, Office of Water.

[FR Doc. 2024-26391 Filed 11-13-24; 8:45 am]

BILLING CODE 6560-50-P